OFFICE OF PERSONNEL MANAGEMENT

Excepted Service

AGENCY: U.S. Office of Personnel Management (OPM).

ACTION: Notice.

SUMMARY: This gives notice of OPM decisions granting authority to make appointments under Schedules A, B, and C in the excepted service as required by 5 CFR 213.103.

FOR FURTHER INFORMATION CONTACT: Roland Edwards, Senior Executive Resource Services, Employee Services, 202-606-2246.

SUPPLEMENTARY INFORMATION: Appearing in the listing below are the individual authorities established under Schedules A, B, and C between July 1, 2010, and July 31, 2010.

These notices are published monthly in the Federal Register at http://www.gpoaccess.gov/fr/. A consolidated listing of all authorities as of June 30 is also published each year. The following Schedules are not codified in the Code of Federal Regulations. These are agency-specific exceptions.

Schedule A

No Schedule A authorities to report during July 2010.

Schedule B

No Schedule B authorities to report during July 2010.

Schedule C

The following Schedule C appointments were approved during July 2010.

Office of National Drug Control Policy

QQGS10011 Senior Policy Analyst for State, Local and Tribal Affairs. Effective July 7, 2010.

QQGS10010 Policy Analyst for Intergovernmental Affairs. Effective July 15, 2010.

Department of State

DSGS70113 Staff Assistant for International Energy Affairs. Effective July 16, 2010.

DSGS70114 Legislative Management Officer for Legislative and Intergovernmental Affairs. Effective July 16, 2010.

DSGS70097 Senior Advisor for Western Hemispheric Affairs. Effective July 19, 2010.

Department of the Treasury

DYGS00532 Special Assistant for Financial Stability. Effective July 23, 2010.

DYGS00533 Special Assistant (Economic Policy). Effective July 23, 2010.

DYGS60421 Special Assistant for Legislative Affairs (Tax and Budget). Effective July 29, 2010.

Department of Defense

DDGS17292 Special Assistant for Defense (Personnel and Readiness). Effective July 29, 2010.

Department of the Air Force

DFGS60026 Special Assistant for the Air Force. Effective July 2, 2010.

Department of Justice

DJGS00612 Senior Counsel for Access to Justice. Effective July 22, 2010.

DJGS00614 Legislative Assistant to the Assistant Attorney General (Legislative Affairs). Effective July 28, 2010.

Department of Homeland Security

DMGS00371 Special Advisor to the Secretary. Effective July 19, 2010.

DMGS00444 Scheduling and Advance Assistant for Scheduling and Protocol Coordination. Effective July 19, 2010.

Department of the Interior

DIGS01193 Deputy Director, Office of Communications/Press Secretary. Effective July 8, 2010.

DIGS01196 Deputy Director, Office of Communications. Effective July 20, 2010.

DIGS01195 Counselor for Land and Minerals Management. Effective July 28, 2010.

Department of Agriculture

DAGS00222 Special Assistant for Rural Housing Service. Effective July 9, 2010.

DAGS00315 Special Assistant for Administration. Effective July 19, 2010.

DAGS00237 Confidential Assistant to the Deputy Secretary. Effective July 21, 2010.

Department of Commerce

DCGS00159 Deputy Director for Public Affairs. Effective July 1, 2010.

DCGS00645 Senior Advisor of Commerce for Industry and Security. Effective July 1, 2010.

DCGS60659 Deputy Director, Office of White House Liaison. Effective July 1, 2010.

DCGS00555 Public Affairs Specialist for the National Telecommunications and Information Administration. Effective July 7, 2010.

DCGS00220 Special Assistant to the Director, Executive Secretariat. Effective July 13, 2010.

DCGS60471 Confidential Assistant for the Chief of Staff. Effective July 15, 2010.

DCGS00687 Senior Policy Advisor, Office of Policy and Strategic Planning. Effective July 22, 2010.

DCGS60136 Special Assistant, National Export Initiative. Effective July 22, 2010.

DCGS00400 Deputy Press Secretary of Public Affairs. Effective July 23, 2010.

DCGS00317 Deputy Director of Scheduling and Advance. Effective July 27, 2010.

Department of Labor

DLGS60139 Special Assistant to the Chief of Staff. Effective July 2, 2010.

Department of Health and Human Services

DHGS60116 Speechwriter (Health Reform) for Public Affairs. Effective July 7, 2010.

DHGS60117 Special Assistant (Health Reform) for Public Affairs. Effective July 8, 2010.

DHGS60569 Confidential Assistant for Scheduling and Advance. Effective July 12, 2010.

Department of Education

DBGS00121 Special Assistant of Education. Effective July 2, 2010.

DBGS00224 Special Assistant for Planning, Evaluation, and Policy Development. Effective July 15, 2010.

DBGS00227 Confidential Assistant for Safe and Drug-Free Schools. Effective July 16, 2010.

DBGS00296 Special Assistant of the White House Initiative on Historically Black Colleges and Universities. Effective July 16, 2010.

DBGS00227 Confidential Assistant for Planning, Evaluation, and Policy Development. Effective July 20, 2010.

DBGS00292 Confidential Assistant of Education. Effective July 20, 2010.

DBGS00330 Confidential Assistant for Elementary and Secondary Education. Effective July 28, 2010.

DBGS00331 Special Assistant for Civil Rights. Effective July 28, 2010.

DBGS00346 Confidential Assistant for Elementary and Secondary Education. Effective July 28, 2010.

DBGS00354 Confidential Assistant to the General Counsel. Effective July 28, 2010.

Environmental Protection Agency

EPGS07023 Advance Specialist to the Deputy Chief of Staff (Operations). Effective July 7, 2010.

EPGS10008 Special Assistant to the Associate Administrator for Policy, Economics, and Innovation. Effective July 7, 2010.

Council on Environmental Quality

EQGS00017 Special Assistant (Green Jobs) to the Chairman (Council on Environmental Quality). Effective July 2, 2010.

EQGS00023 Special Assistant (Legislative Affairs) to the Chairman (Council on Environmental Quality). Effective July 2, 2010.

EQGS00122 Special Assistant (Land and Water Ecosystems) to the Chairman (Council on Environmental Quality). Effective July 23, 2010.

Department of Energy

DEGS00822 Senior Advisor to the Chief of Staff. Effective July 7, 2010.

DEGS00823 Deputy Assistant Secretary for Senate Affairs. Effective July 7, 2010.

DEGS00824 Special Assistant for the Office of Scheduling and Advance. Effective July 16, 2010.

Small Business Administration

SBGS00691 Director of Hubzone for Government Contracting and Business Development. Effective July 12, 2010.

General Services Administration

GSGS01439 Special Assistant to the Regional Administrator. Effective July 20, 2010.

GSGS01444 Press Secretary for Communications and Marketing. Effective July 27, 2010.

GSGS01445 Deputy Press Secretary for Communications and Marketing. Effective July 28, 2010.

Department of Housing and Urban Development

DUGS00050 Staff Assistant for the Office of Executive Scheduling and Operations. Effective July 22, 2010.

Department of Transportation

DTGS60380 Associate Administrator for Governmental, International, and Public Affairs. Effective July 16, 2010.

Administrative Conference of the United States

AAGS00001 Executive Assistant to the Chairman. Effective July 2, 2010.

Authority: 5 U.S.C. 3301 and 3302; E.O. 10577, 3 CFR 1954-1958 Comp., p. 218.

John Berry,
Director, U.S. Office of Personnel Management.

[FR Doc. 2010-21069 Filed 8-24-10; 8:45 am]

BILLING CODE 6325-39-P